DEPARTMENT OF THE INTERIOR

Bureau of Indian Affairs

[222A2100DD/AAKC001030/A0A501010.999900253G]

Living Languages Grant Program (LLGP); Solicitation of Proposals

AGENCY: Bureau of Indian Affairs, Interior.

ACTION: Notice.

SUMMARY: The Office of Indian Economic Development (OIED), through its Living Languages Grant Program (LLGP), is soliciting proposals from federally recognized Tribes and Tribal organizations for grants to fund Native language instruction and immersion programs for Native students not enrolled at Bureau of Indian Education (BIE) schools, including those Tribes in States without BIE-funded schools.

DATES: Applications will be accepted until 11:59 p.m. ET on March 7, 2022.

FOR FURTHER INFORMATION CONTACT: Mr. Dennis Wilson, Grant Management Specialist, Office of Indian Economic Development, telephone: (505) 917-3235; email: dennis.wilson@bia.gov. Additional Program information can be found at https://www.bia.gov/service/grants/llgp.

SUPPLEMENTARY INFORMATION:

I. General Information

II. Number of Projects Funded

III. Background

IV. Eligibility for Funding

V. Applicant Procurement Procedures

VI. Limitations

VII. Language Instructor Credentials

VIII. LLGP Application Guidance

IX. Review and Selection Process

X. Evaluation Criteria

XI. Transfer of Funds

XII. Reporting Requirements for Award Recipients

XIII. Conflicts of Interest

XIV. Questions and Requests for OIED Assistance

XV. Separate Document(s)

XVI. Paperwork Reduction Act

XVII. Authority

I. General Information

Award Ceiling: 200,000.

Award Floor: 25,000.

CFDA Number: 15.032.

Cost Sharing or Matching Requirement: No.

Number of Awards: 15-60.

Category: Education Program Enhancements.

II. Number of Projects Funded

OIED anticipates award of approximately fifteen (15) to sixty (60) grants under this announcement ranging in value from approximately $25,000 to $200,000. The program can fund projects only one year at a time. OIED will use a competitive evaluation process based on criteria described in the Evaluation Criteria section (section X of this notice).

III. Background

The Office of the Assistant Secretary—Indian Affairs, through OIED, is soliciting proposals from federally recognized Tribes listed as Indian Entities Recognized by and Eligible to Receive Services from the United States Bureau of Indian Affairs at 86 FR 7554 (January 29, 2021) or Tribal Organizations as eligible for LLGP grants. Indian Tribes are referred to using the term “Tribe” throughout this notice. Tribal Organization is defined by 25 U.S.C. 5304(l). While only federally recognized Tribes or Tribal Organizations may apply for LLGP grants, grantees may select or retain for-profit or non-profit Tribal Organizations to perform a grant's scope of work for grant funding to support Tribal programs to document Native languages or build Tribal capacity to create or expand language preservation programs. The LLGP will exclude as grantees BIE schools and BIE-funded schools or programs targeting students enrolled in those schools.

The funding will focus on small or start-up programs whose objective is to document or build the capacity to preserve Native languages that are losing users, but which still have active users at the grandparent generation. The LLGP seeks to document, preserve, and revitalize languages that are used for face-to-face communication; languages that can be used by a child-bearing generation, but are not being transmitted to children; languages whose only active users are members of the grandparent generation or older; languages whose only active users are members of the grandparent generation or older but who have little opportunity to use them; and languages that serve as a reminder of heritage identity for an ethnic community, but which lack proficient speakers.

These grants will be funded under a non-recurring appropriation of the BIA budget. Congress appropriates funds on a year-to-year basis. Thus, while some LLGP projects may extend over several years, funding for successive years depends on each fiscal year's appropriations.

OIED administers this program through its Division of Economic Development (DED).

The funding periods and amounts referenced in this solicitation are subject to the availability of funds at the time of award, as well as the Department of the Interior (DOI) and Indian Affairs priorities at the time of the award. Neither DOI nor Indian Affairs will be held responsible for proposal or application preparation costs. Publication of this solicitation does not obligate DOI or Indian Affairs to award any specific grant or to obligate all or any part of available funds. Future funding is subject to the availability of appropriations and cannot be guaranteed. DOI or Indian Affairs may cancel or withdraw this solicitation at any time.

IV. Eligibility for Funding

The Secretary of the Interior (Secretary), through the OIED Division of Economic Development (DED), solicits proposals only from federally recognized Tribes listed as Indian Entities Recognized by and Eligible to Receive Services from the United States Bureau of Indian Affairs at 85 FR 5462 or Tribal Organizations are eligible for LLGP grants. Indian Tribes are referred to using the term “Tribe” throughout this notice. Tribal Organization is defined by 25 U.S.C. 5304(l). While only federally recognized Tribes or Tribal Organizations may apply for LLGP grants, grantees may select or retain for-profit or non-profit Tribal Organizations to perform a grant's scope of work to receive LLGP grants.

Excluded as grantees are BIE-operated schools and BIE-funded schools or programs targeting students enrolled in those schools.

V. Applicant Procurement Procedures

The applicant is subject to the procurement standards in 2 CFR 200.318 through 200.326. In accordance with 2 CFR 200.318, an applicant must use its own documented procurement procedures which reflect Tribal laws and regulations, provided that the procurements conform to applicable Federal law and standards identified in 25 CFR part 2.

VI. Limitations

The LLGP grant funding must be expended in accordance with applicable statutory and regulatory requirements, including 2 CFR part 200.

Applicants that are currently under BIA sanction Level 2 or higher resulting from non-compliance with the Single Audit Act are ineligible for an LLGP award. Applicants at Sanction Level 1 will be considered for funding.

No more than one proposal will be accepted by a federally recognized Tribe. Applications should address only one project. Any submissions that contain multiple project proposals will not be considered. OIED will apply the same objective ranking criteria to each proposal.

The purpose of LLGP grants is to fund Native language instruction and immersion programs only. LLGP awards may not be used for:

• Indirect costs or administrative costs as defined by the Federal Acquisition Regulation (FAR);

• Legal fees;

• Contract negotiation fees; and

• Any other activities not authorized by the grant award letter.

VII. Language Instructor Credentials

Instructors identified in LLGP proposals for funding need only be approved by the Tribal applicant and need not be credentialed or certified by a State, educational institution, or other external entity.

VIII. LLGP Application Guidance

All applications must be submitted in digital form to grants.gov. For instructions, see https://www.grants.gov/help/html/help/Applicants/HowToApplyForGrants.htm.

All LLGP applicants must submit the standard forms “package” as outlined in section IX of this announcement. These forms can be found under the “package” tab on the LLGP2021 grant listing at www.grants.gov. In very limited circumstances, OIED may accept a non-digital application. Please contact OIED at least a week prior to the submission deadline for approval. There are seven mandatory components (forms) that must be included in each proposal package. Links to the mandatory forms can be found under the “package” tab on the LLGP2021 grant opportunity page at www.grants.gov. The following are the names of the required forms:

• Application for Federal Assistance (SF-424) [V3.0]

• Budget Information for Non-Construction Programs (SF-424A) [V1.0]

• Budget Narrative Attachment Form [V1.2]

• Project Abstract Summary [V2.0]

• Project Narrative Attachment Form [V1.2]

• Attachments [V1.2]

• Key Contacts [V2.0]

Application for Federal Assistance SF-424

It is required that the applicant complete the Application for Federal Assistance SF-424. Please use a descriptive file name that includes Tribal name and project description. For example: LLGPSF424.Tribalname.Project.

Project Abstract Summary and Project Narrative Attachment

The first paragraph of the project narrative must include the title and basic description of the proposed Living Languages project. The Project Narrative must not exceed 15 pages. At a minimum, it should include:

• A technical description of the project and, if applicable, an explanation of how the project would benefit the applicant and does not duplicate previous work.

• A description of the project objectives and goals.

• Deliverable products that the project will generate, including interim deliverables (such as status reports and technical data to be obtained) and final deliverables.

• Resumes of key consultants and/or personnel to be retained, if available, and the names of subcontractors, if applicable. This information may be included as an attachment to the application and will not be counted towards the 15-page limitation.

• Please use a descriptive file name that includes Tribal name and project description. For example: LLGPNarrative.Tribalname.Project.

Project Narratives are not judged based on their length. Please do not submit any unnecessary attachments or documents beyond what is listed above, e.g., Tribal history, unrelated photos, and maps.

Budget Information for Non-Construction Programs (SF-424A) [V1.0] and Budget Narrative Attachment Form [V1.2]

It is required that the budget be submitted using the SF-424A form. Please use a descriptive file name that includes Tribal name and project description. For example: LLGPBudget.Tribalname.Project.

The budget must identify the amount of grant funding requested and a comprehensive breakdown of all projected and anticipated expenditures, including contracted personnel fees, consulting fees (hourly or fixed), travel costs, data collection and analysis costs, computer rentals, report generation, drafting, advertising costs for a proposed project and other relevant project expenses, and their subcomponents.

• Travel costs should be itemized by airfare, vehicle rental, lodging, and per diem, based on the current Federal government per diem schedule.

• Data collection and analysis costs should be itemized in sufficient detail for the OIED review committee to evaluate the charges.

• Other expenses may include computer rental, report generation, drafting, and advertising costs for a proposed project.

Key Contacts [V2.0]

Applicants must include the Key Contacts information page that includes:

• Project Manager's contact information including address, email, desk, and cell phone number.

• If there is more than one contact, please provide an additional key contact's form.

• Please use a descriptive file name that includes Tribal name and identifies that it is the critical information page (CIP). For example: LLGPCIP.Tribalname.Project.

Attachments [V1.2]

Utilize the attachments form to include the Tribal resolution issued in the fiscal year of the grant application, authorizing the submission of a LLGP 2021 grant application. It must be signed by authorized Tribal representative(s). The Tribal resolution must also include a description of the Living Language project that will be delivered. The attachments form can also be used to include any other attachments related to the proposal.

Required Grantee Travel and Attendance at a Language Preservation Annual Grantee Meeting

Grantees will be required to have two individuals who work directly on the project attend an in-person annual DOI/OIED-sponsored grantee 3-day meeting in Washington, DC, during the year of the grant award. Applicants must include costs in the budget to cover this requirement. Travel costs must not exceed $6,000 per person. Applicants should follow their own travel policies to budget for this 3-day meeting.

Special Notes

Please make sure that the System for Award Management (SAM) number used to apply is active, not expired.

Please make sure an active Automated Standard Application for Payment (ASAP) number is provided. Applicants must have an ASAP number to be eligible.

It is helpful to list counties where the project is located and congressional district number where the project is located.

Incomplete Applications. Incomplete applications will not be accepted. Please ensure that all of the forms listed in the announcement are completed and submitted in grants.gov.

IX. Review and Selection Process

Upon receiving an LLGP application, OIED will determine whether the application is complete. Any proposal that is received after the date and time in the DATES section of this notice will not be reviewed.

The Committee, comprised of OIED staff, Federal partners, and subject matter experts, will evaluate the proposals against the ranking criteria. Proposals will be evaluated using the three ranking criteria listed below, with a maximum achievable total of 100 points.

Final award selections will be approved by the Assistant Secretary—Indian Affairs and the Associate Deputy Secretary, U.S. Department of the Interior. Applicants not selected for award will be notified in writing.

X. Evaluation Criteria

Clarity and Reasonableness: 20 points. The Committee will review LLGP grant proposals for completeness, organization, and the reasonableness of identified costs, all in the context of achieving a project's stated goals and objectives. The Committee will examine whether the budget submitted is detailed enough to explain how and when funds are to be spent and whether line-item budget numbers are appropriate and reasonable to complete the proposed tasks.

Qualitative Impact: 40 points. The proposal should clearly state how the project would document, preserve, or revitalize a Native language whose status is described at Section III of this notice. The Committee will evaluate the extent to which the Native language addressed by the proposal is jeopardized or nearing extinction and the degree to which the proposal could enliven the language by arresting or minimizing intergenerational disruption.

Quantitative Impact: 40 points. The proposal should estimate the number of students or percentage of Tribal members who will be directly and indirectly benefitted by the proposal. This criterion is not intended to favor proposals submitted by Tribes with larger populations or disadvantage those submitted by Tribes with smaller ones. Because LLGP funds are limited, however, the Committee must conduct a cost-benefit analysis of each proposal. On this basis, the Committee will prefer applicants that are currently receiving little or no Federal funding for language preservation activities.

LLGP applications will be ranked using only these criteria (as described above):

• Clarity and Reasonableness: 20.

• Qualitative Impact: 40.

• Quantitative Impact: 40.

• Total: 100.

XI. Transfer of Funds

OIED's obligation under this solicitation is contingent on receipt of congressionally appropriated funds. No liability on the part of the U.S. Government for any payment may arise until funds are made available to the awarding officer for this grant and until the recipient receives notice of such availability, to be confirmed in writing by the grant officer.

All payments under this agreement will be made by electronic funds transfer through the ASAP. All award recipients are required to have a current and accurate DUNS number to receive funds. All payments will be deposited to the banking information designated by the applicant in the SAM.

XII. Reporting Requirements for Award Recipients

The applicant must deliver all products and data required by the signed Grant Agreement for the proposed LLGP activities to OIED within 30 days of the end of each reporting period and 90 days after completion of the project. The reporting periods will be established in the terms and conditions of the final award.

OIED requires that deliverable products be provided in digital format. Reports can be provided in either Microsoft Word or Adobe Acrobat PDF format. Spreadsheet data can be provided in Microsoft Excel, Microsoft Access, or Adobe PDF formats. All vector figures should be converted to PDF format. Raster images can be provided in PDF, JPEG, TIFF, or any of the Windows's metafile formats. The contract between the grantee and the consultant conducting the LLGP funded project must include deliverable products and require that the products be prepared in the format described above.

The contract should include budget amounts for all printed and digital copies to be delivered in accordance with the grant agreement. In addition, the contract must specify that all products generated for the project belong to the grantee and cannot be released to the public without the grantee's written approval. Products include, but are not limited to, all reports and technical data obtained, status reports, and the final report.

In addition, this funding opportunity and financial assistance award must adhere to the following provisions:

XIII. Conflicts of Interest

Applicability

• This section intends to ensure that non-Federal entities and their employees take appropriate steps to avoid conflicts of interest in their responsibilities under or with respect to Federal financial assistance agreements.

• In the procurement of supplies, equipment, construction, and services by recipients and by sub-recipients, the conflict-of-interest provisions in 2 CFR 200.318 apply.

Requirements

• Non-Federal entities must avoid prohibited conflicts of interest, including any significant financial interests that could cause a reasonable person to question the recipient's ability to provide impartial, technically sound, and objective performance under or with respect to a Federal financial assistance agreement.

• In addition to any other prohibitions that may apply with respect to conflicts of interest, no key official of an actual or proposed recipient or sub-recipient, who is substantially involved in the proposal or project, may have been a former Federal employee who, within the last one (1) year, participated personally and substantially in the evaluation, award, or administration of an award with respect to that recipient or sub-recipient or in development of the requirement leading to the funding announcement.

• No actual or prospective recipient or sub-recipient may solicit, obtain, or use non-public information regarding the evaluation, award, administration of an award to that recipient or sub-recipient or the development of a Federal financial assistance opportunity that may be of competitive interest to that recipient or sub-recipient.

Notification

• Non-Federal entities, including applicants for financial assistance awards, must disclose in writing any conflict of interest to the DOI awarding agency or pass-through entity in accordance with 2 CFR 200.112, Conflicts of Interest.

• Recipients must establish internal controls that include, at a minimum, procedures to identify, disclose, and mitigate or eliminate identified conflicts of interest. The recipient is responsible for notifying the Financial Assistance Officer in writing of any conflicts of interest that may arise during the life of the award, including those that have been reported by sub-recipients.

• Restrictions on Lobbying. Non-Federal entities are strictly prohibited from using funds under this grant or cooperative agreement for lobbying activities and must provide the required certifications and disclosures pursuant to 43 CFR part 18 and 31 U.S.C. 1352.

• Review Procedures. The Financial Assistance Officer will examine each conflict-of-interest disclosure on the basis of its particular facts and the nature of the proposed grant or cooperative agreement and will determine whether a significant potential conflict exists and, if it does, develop an appropriate means for resolving it.

• Enforcement. Failure to resolve conflicts of interest in a manner that satisfies the Government may be cause for termination of the award. Failure to make the required disclosures may result in any of the remedies described in 2 CFR 200.338, Remedies for Noncompliance, including suspension or debarment (see also 2 CFR part 180).

Data Availability

• Applicability. The Department of the Interior is committed to basing its decisions on the best available science and providing the American people with enough information to thoughtfully and substantively evaluate the data, methodology, and analysis used by the Department to inform its decisions.

• Use of Data. The regulations at 2 CFR 200.315 apply to data produced under a Federal award, including the provision that the Federal Government has the right to obtain, reproduce, publish, or otherwise use the data produced under a Federal award as well as authorize others to receive, reproduce, publish, or otherwise use such data for Federal purposes.

• Availability of Data. The recipient shall make the data produced under this award and any subaward(s) available to the Government for public release, consistent with applicable law, to allow meaningful third-party evaluation and reproduction of the following:

○ The scientific data relied upon;

○ The analysis relied upon; and

○ The methodology, including models, used to gather and analyze data.

XIV. Questions and Requests for OIED Assistance

OIED staff may provide technical assistance, upon written request by an applicant. The request must clearly identify the type of assistance sought. Technical assistance does not include funding to prepare a grant proposal, grant writing assistance, or pre-determinations as to the likelihood that a proposal will be awarded. The applicant is solely responsible for preparing its grant proposal. Technical assistance may include clarifying application requirements, and registration information for SAM or ASAP.

XV. Separate Document(s)

• Application for Federal Assistance SF-424 Form.

• Project Narrative Attachment Form (This form includes the Project Narrative, Budget, Tribal Resolution, and Critical Information page).

XVI. Paperwork Reduction Act

The information collection requirements contained in SF-424, Application for Federal Assistance have been reviewed and approved by the Office of Management and Budget (OMB) under the Paperwork Reduction Act, 44 U.S.C. 3504(h). The OMB control number is 4040-0004. The authorization expires on December 31, 2022. An agency may not conduct or sponsor, and you are not required to respond to, any information collection that does not display a currently valid OMB Control Number.

XVII. Authority

This is a discretionary grant program authorized under the Snyder Act (25 U.S.C. 13) and the Further Consolidated Appropriations Act, 2020 (Pub. L. 116-94). The Snyder Act authorizes the BIA to expend such moneys as Congress may appropriate for the benefit, care, and assistance of Indians for the purposes listed in the Act. LLGP grants facilitate one of the purposes listed in the Snyder Act: “General support and civilization, including education.” The Further Consolidated Appropriations Act, 2020, authorizes the BIA to “carry out the operation of Indian programs by direct expenditure, contracts, cooperative agreements, compacts, and grants, either directly or in cooperation with States and other organizations.” Further, the Conference Report specifies, the agreement continues $3,000,000 for grants to federally recognized Indian Tribes and Tribal organizations to provide native language instruction and immersion programs to Native students not enrolled at BIE schools, including those Tribes and organizations in states without Bureau-funded schools.

Bryan Newland,
Assistant Secretary—Indian Affairs.

[FR Doc. 2021-26401 Filed 12-3-21; 8:45 am]

BILLING CODE 4337-15-P